COMMITTEE FOR PURCHASE FROM PEOPLE WHO ARE BLIND OR SEVERELY DISABLED

Procurement List Deletions

AGENCY: Committee for Purchase From People Who Are Blind or Severely Disabled.

ACTION: Deletions from the Procurement List.

SUMMARY: This action deletes products and a service from the Procurement List previously furnished by such agencies.

DATES: Effective Date: 5/20/2013.

ADDRESSES: Committee for Purchase From People Who Are Blind or Severely Disabled, 1401 S. Clark Street, Suite 10800, Arlington, Virginia 22202-4149.

FOR FURTHER INFORMATION CONTACT: Patricia Briscoe, Telephone: (703) 603-7740, Fax: (703) 603-0655, or email CMTEFedReg@AbilityOne.gov.

SUPPLEMENTARY INFORMATION:

Deletions

On 3/8/2013 (78 FR 15000) and 11/2/2012 (77 FR 66181), the Committee for Purchase From People Who Are Blind or Severely Disabled published notice of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN: 6545-01-168-6893—First Aid Kit, Small Craft

NSN: 6545-01-141-9476—Medical Equipment Set, Ground Ambulance

NSN: 6545-01-191-8972—Medical Equipment Set, Trauma, Field

NSN: 6545-01-191-8971—Medical Equipment Set, X-Ray, Field

NSN: 6545-00-920-7125—First Aid Kit, Gun Crew

NPA: Ontario County Chapter, NYSARC, Inc., Canandaigua, NY

Contracting Activity: Defense Logistics Agency Troop Support, Philadelphia, PA

NSN: 1680-00-677-2060—Bottom Assembly, Crew Berth

NPA: None assigned.

Contracting Activity: Defense Logistics Agency Aviation, Richmond, VA

Service

Service Type/Location: Custodial Services, Kastenmeir US Courthouse, 120 Henry Street, Madison, WI

NPA: Madison Area Rehabilitation Centers, Inc., Madison, WI

Contracting Activity: GSA, Public Buildings Service, Property Management Service Center, Chicago, IL

Patricia Briscoe,
Deputy Director, Business Operations (Pricing and Information Management).

[FR Doc. 2013-09217 Filed 4-18-13; 8:45 am]

BILLING CODE 6353-01-P